DEPARTMENT OF TRANSPORTATION

National Highway Traffic Safety Administration

[Docket No. NHTSA-2012-0115; Notice 2]

Mercedes-Benz USA, LLC, on Behalf of Daimler AG, Grant of Petition for Decision of Inconsequential Noncompliance

AGENCY: National Highway Traffic Safety Administration, DOT.

ACTION: Grant of petition .

SUMMARY: Mercedes-Benz USA, LLC (MBUSA), ¹ on behalf of itself and its parent company Daimler AG (DAG),² has determined that certain model year (MY) 2012 Mercedes-Benz C-Class (204 platform) passenger cars manufactured between March and August 2011, do not fully comply with paragraph S4.3(d) of Federal Motor Vehicle Safety Standard (FMVSS) No. 110, Tire selection and rims and motor home/recreation vehicle trailer load carrying capacity information for motor vehicles with a GVWR of 4,536 kilograms (10,000 pounds) or less. MBUSA has filed an appropriate report dated May 4, 2012, pursuant to 49 CFR part 573, Defect and Noncompliance Responsibility and Reports.

¹ Mercedes-Benz USA, LLC is a U.S. company that manufacturers and imports motor vehicles.

² Daimler AG is a German company that manufactures motor vehicles.

Pursuant to 49 U.S.C. 30118(d) and 30120(h) and the rule implementing those provisions at 49 CFR Part 556, MBUSA has petitioned for an exemption from the notification and remedy requirements of 49 U.S.C. Chapter 301 on the basis that this noncompliance is inconsequential to motor vehicle safety. Notice of receipt of the petition was published, with a 30-day public comment period, on September 13, 2012 in the Federal Register (77 FR 56698). No comments were received. To view the petition and all supporting documents log onto the Federal Docket Management System (FDMS) Web site at: http://www.regulations.gov/. Then follow the online search instructions to locate docket number “NHTSA-2012-0115.”

Contact Information: For further information on this decision contact Ms. Amina Fisher, Office of Vehicle Safety Compliance, the National Highway Traffic Safety Administration (NHTSA), telephone (202) 366-1018, facsimile (202) 366-5930.

Vehicles Involved: Affected are approximately 1,479 MY 2012 Mercedes-Benz C-Class (204 platform) passenger vehicles manufactured between March and August 2011.

Rule Text: Section S4.3(d) of FMVSS No. 110 specifically states:

S4.3 Placard. Each vehicle, except for a trailer or incomplete vehicle, shall show the information specified in S4.3(a) through (g), and may show, at the manufacturer's option, the information specified in S4.3(h) and (i), on a placard permanently affixed to the driver's side B-pillar.* * *

(b) Tire size designation, indicated by the headings “size” or “original tire size” or “original size,” and “spare tire” or “spare,” for the tires installed at the time of the first purchase for purposes other than resale. * * *

Summary of MBUSA'S Analyses: MBUSA explains that the noncompliance is that the vehicle placard on the affected vehicles incorrectly identifies the tire size designation of the spare tire in the vehicle.

MBUSA explains that while the vehicle placard incorrectly identifies the designated spare tire size corresponding to the actual size of the spare tire originally installed in the vehicle, the recommended cold tire inflation pressure for the spare tire is correctly stated. In addition, all information required under S4.3 for maintaining and replacing the front and rear tires, as well as vehicle weight and seating capacity, is correct.

MBUSA also stated that if a vehicle owner were to question the correct spare tire size they would be able to check the size by comparing it with the size stamped on the sidewall of the originally provided spare tire. If the vehicle owner were to attempt to put a spare tire of the size indicated on the vehicle placard on the spare tire rim originally provided with the vehicle, it would be immediately apparent that the tire is too large to be installed on the rim and hold any inflation pressure. Both the actually provided spare tire and a tire of the size indicated on the vehicle placard for the spare tire meet the FMVSS No. 110 loading requirements at the recommended cold inflation pressure stated on the vehicle placard. Both the originally installed spare tire and a spare tire of the size listed on the vehicle placard, when inflated to the labeled recommended cold inflation pressure, are appropriate to handle the vehicle maximum loads.

MBUSA has additionally informed NHTSA that it has corrected future production and that all other required markings are present and correct.

MBUSA is not aware of any incidents or customer complaints related to the noncompliant vehicle placard.

MBUSA also expressed its belief that NHTSA has previously granted similar petitions.

In summation, MBUSA believes that the described noncompliance of the subject vehicles is inconsequential to motor vehicle safety, and that its petition, to exempt from providing recall notification of noncompliance as required by 49 U.S.C. 30118 and remedying the recall noncompliance as required by 49 U.S.C. 30120 should be granted.

NHTSA Decision: NHTSA has reviewed and accepts MBUSA's analyses that the noncompliance is inconsequential to motor vehicle safety. MBUSA has provided sufficient documentation that other than the vehicle placard error, the vehicles comply with all other safety performance requirements of FMVSS No. 110. Since the correct information is provided in other locations, MBUSA has met its burden of persuasion. Accordingly, MBUSA's petition is hereby granted, and MBUSA is exempted from the obligation of providing notification of, and a remedy for, that noncompliance under 49 U.S.C. 30118 and 30120.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, this decision only applies to the 1,479 vehicles that MBUSA no longer controlled at the time it determined that a noncompliance existed. However, the granting of this petition does not relieve distributors and dealers of the prohibitions on the sale, offer for sale, or introduction or delivery for introduction into interstate commerce of the noncompliant vehicles under their control after MBUSA notified them that the subject noncompliance existed.

Authority: (49 U.S.C. 30118, 30120: delegations of authority at 49 CFR 1.95 and 501.8)

Issued on: July 9, 2013.
Claude H. Harris,
Director, Office of Vehicle Safety Compliance.

[FR Doc. 2013-17438 Filed 7-19-13; 8:45 am]

BILLING CODE 4910-59-P